FEDERAL MARITIME COMMISSION

Ocean Transportation Intermediary License Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

New York Logistic Services, Inc., 207 Timber Oaks Road, Edison, NJ 08820. Officers: Syed Hamid Hussaini, CEO, Mohamed Abouelmaati, President (Qualifying Individuals)

Champion Int'l Freight, Inc., 3200 Westleigh Avenue, Las Vegas, NV 89102. Officer: Bibi Chin, President (Qualifying Individual)

Coldwave Systems, LLC 85 Eastern Avenue, Gloucester, MA 01930. Officers: B. Eric Graham, Manager (Qualifying Individual)

David Bell, Member, Masters International Logistics, Inc., 88 Prospect Street, 1st Floor, Paramus, NJ 07652. Officers: Won H. Kim, President (Qualifying Individual)

Non-Vessel Operating Common Carrier and Ocean Freight Forwarder Transportation Intermediary Applicants: Miami Apparel Services, Inc., 9324 NW 102 Street, Medley, FL 33178. Officer: Milthon N. Tejada, President (Qualifying Individual)

Faour International Co., 1971 W. Fifth Avenue, Suite 2, Columbus, OH 43212. Officers: Hussam M. Faour, President (Qualifying Individual)

Nidal Saleh, Secretary, Ocean Freight Forwarder—Ocean Transportation Intermediary. Applicants: BKA Logistics, LLC 1101 Connecticut Ave., NW., Suite 900, Washington, DC 20016. Officers: Peter M. Kelly, Director (Qualifying Individual)

James B. Mead, President, Natco International Transports, 12415 SW 136th Avenue, Bay 4, Miami, FL 33186. Officers: Andres Hernadez, General Manager (Qualifying Individual),

Jason Duarte, Vice President

Dated: July 20, 2001.
Bryant L. VanBrakle,
Secretary.

[FR Doc. 01-18595 Filed 7-25-01; 8:45 am]

BILLING CODE 6730-01-P